DEPARTMENT OF HEALTH AND HUMAN SERVICES

Administration for Children and Families

[CFDA Number(s): 93.645]

Notice of Allotment Percentages to States for Child Welfare Services State Grants; Correction

AGENCY: Administration for Children and Families, Department of Health and Human Services.

ACTION: Notice; correction.

SUMMARY: The Administration for Children and Families published a document in the Federal Register published Wednesday, December 4, 2024, concerning notice of Allotment Percentages to States for Child Welfare Services State Grants. The formula used to calculate the allotment percentages for each state was not applied correctly. Although the percentage for the State of Alabama percentage was calculated correctly, the formula used to calculate the allotment percentages was not correctly applied to the remaining states.

FOR FURTHER INFORMATION CONTACT: Sona Cook, 214-767-2973.

SUPPLEMENTARY INFORMATION:

Correction

In the Federal Register of December 4, 2024, in FR Doc. 2024-28398, on page 96256, in the second and third columns, the ALLOTMENT table contained an incorrect formula for the Allotment Percentages to States for Child Welfare Services State Grants. The updated ALLOTMENT table with the correct allotment percentage for each State is as follows:

Allotment **
State | Percentage
Alabama | 61.01
Alaska * | 48.58
Arizona | 55.49
Arkansas | 58.66
California | 41.38
Colorado | 43.03
Connecticut | 35.99
Delaware | 52.51
District of Columbia ¹ | 30.00
Florida | 51.25
Georgia | 56.80
Hawaii * | 52.67
Idaho | 57.12
Illinois | 48.26
Indiana | 55.74
Iowa | 54.48
Kansas | 53.25
Kentucky | 60.14
Louisiana | 57.73
Maine | 53.63
Maryland | 46.19
Massachusetts | 35.02
Michigan | 56.10
Minnesota | 47.65
Mississippi | 64.18
Missouri | 55.55
Montana | 53.73
Nebraska | 49.64
Nevada | 52.74
New Hampshire | 43.28
New Jersey | 41.18
New Mexico | 60.32
New York | 41.19
North Carolina | 55.66
North Dakota | 47.82
Ohio | 55.81
Oklahoma | 56.84
Oregon | 51.55
Pennsylvania | 50.59
Rhode Island | 51.41
South Carolina | 58.86
South Dakota | 47.83
Tennessee | 55.38
Texas | 52.76
Utah | 54.33
Vermont | 52.28
Virginia | 47.50
Washington | 42.58
West Virginia | 62.16
Wisconsin | 53.26
Wyoming | 42.78
America Samoa | 70.00
Guam | 70.00
Puerto Rico | 70.00
N. Mariana Islands | 70.00
Virgin Islands | 70.00

Anthony Petruccelli,
Senior Grants Policy Specialist, Office of Grants Policy, Office of Administration.

[FR Doc. 2024-31515 Filed 1-2-25; 8:45 am]

BILLING CODE 4184-01-P